DEPARTMENT OF COMMERCE

National Oceanic and Atmospheric Administration

[I.D. 050305B]

Listing Endangered and Threatened Wildlife and Plants; Withdrawal of the Petition to List Eastern Oyster as Threatened or Endangered under the Endangered Species Act

AGENCY: National Marine Fisheries Service (NMFS), National Oceanic and Atmospheric Administration (NOAA), Commerce.

ACTION: Notice of the withdrawal of a petition.

SUMMARY: NMFS announces that a request by Mr. Wolf-Dieter Busch (the petitioner) to withdraw his petition to list eastern oyster (Crassostrea virginica) has been received. NMFS has accepted this request and will cease the evaluation of the petition. However, in recognition of the considerable work that has been completed to date on the status review report and the value of this comprehensive resource to the management of this species, NMFS will ask the Biological Review Team (BRT) to complete the status review report.

FOR FURTHER INFORMATION CONTACT: Ms. Kimberly Damon-Randall, NMFS, Northeast Regional Office, (978) 281-9300 x6535, or Marta Nammack, NMFS, HQ, (301) 713-1401 x180, or Jennifer Moore, NMFS Southeast Regional Office, (727) 824-5312.

SUPPLEMENTARY INFORMATION: On January 11, 2005, NMFS received the petition to list eastern oyster (Crassostrea virginica) as threatened or endangered under the ESA. On May 18, 2005, NMFS published a Federal Register notice (70 FR 28510) announcing that the petition and the information in our files indicated that the petitioned action may be warranted. Thus, NMFS initiated a review of the status of this species.

On Wednesday, October 19, 2005, NMFS received a letter from the petitioner, dated October 13, 2005, requesting the recall of the eastern oyster petition. In his letter, the petitioner indicated that his request to withdraw the petition is due to confusion over the petition process. He noted the significant concerns of some that the species may be listed as endangered, thereby creating severe restrictions and regulations for this resource. He also expressed concern that, given the timeline of the review, NMFS may not currently have enough information to determine if eastern oyster subspecies exist. He concluded that he hopes that NMFS will continue with the review as he considers the status review report to be a comprehensive resource which will be of great value in focusing restoration activities for this species.

NMFS has accepted this request and will consider the petition withdrawn, effective immediately. However, a considerable amount of effort has been expended to date by the eastern oyster BRT as it has already met twice and prepared approximately three quarters of the status review report. When complete, the status review report will be the most timely and comprehensive resource document for this species, and, as such, it will be a useful tool in guiding future management decisions. NMFS has, therefore, determined that the BRT will continue with the status review report and will complete the report as soon as practicable.

Authority: 16 U.S.C. 1531 et seq.

Dated: November 7, 2005.
Donna Wieting,
Deputy Director, Office of Protected Resources, National Marine Fisheries Service.

[FR Doc. 05-22552 Filed 11-10-05; 8:45 am]

BILLING CODE 3510-22-S